COMMISSION ON CIVIL RIGHTS

Sunshine Act Meeting

AGENCY: United States Commission on Civil Rights.

ACTION: Notice of Business Meeting.

DATE AND TIME: Friday, January 4, 2013; 9:30 a.m. EST.

PLACE: 1331 Pennsylvania Ave., NW., Suite 1150, Washington, DC 20425.

Meeting Agenda

This meeting is open to the public.

I. Approval of Agenda

II. Program Planning Update and discussion of projects:

• Update on the 2013 Statutory Enforcement Report Hearing—Sexual Assault in the Military

• Update on the February 2013 Briefing: Regulatory and Other Barriers to Entrepreneurship that Impede Business Start-Ups

• Discussion and Vote on the March 2013 Briefing: Peaceful Coexistence? Reconciling Non-Discrimination Principles with Civil Liberties

• Vote to extend deadline on public comments for the December 2012 Briefing—Assessing the Impact of Criminal Background Checks and the Equal Employment Opportunity Commission's Conviction Records Policy on the Employment of Black and Hispanic Workers

III. Management and Operations

• OPM Presentation & Discussion on the Administration's Diversity and Inclusion Initiative

• Final Approval of USCCR 2014—2018 Strategic Plan

• Discussion on Unified Agenda proposal

• Chief of Regional Programs' report

• Discussion on AI 1-7-1: Temporary Notational Voting Procedures

IV. Approval of State Advisory Committee Slates

• Arkansas

• Colorado

• Florida

• Louisiana

• Michigan

• Ohio

• South Carolina

• South Dakota

• Texas

• Wisconsin

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: December 21, 2012.
David Mussatt,
Director—Midwestern Regional Office.

[FR Doc. 2012-31165 Filed 12-26-12; 11:15 am]

BILLING CODE 6335-01-P